DEPARTMENT OF THE INTERIOR

National Park Service

General Management Plan, Draft Environmental Impact Statement, Colorado National Monument, Colorado

AGENCY: National Park Service, Department of the Interior.

ACTION: Notice of availability of the draft environmental impact statement for the general management plan, Colorado National Monument.

SUMMARY: Under the provisions of the National Environmental Policy Act of 1969, 42 U.S.C. 4332(c), the National Park Service announces the availability of the draft environmental impact statement for the general management plan for Colorado National Monument, Colorado.

DATES: The National Park Service will accept comments from the public on the Draft Environmental Impact Statement for 60 days after the publication of this notice. Public meetings will be scheduled in the vicinity of the monument and announced in the local media.

ADDRESSES: Copies of the document will be available at the following locations:

Colorado National Monument Visitor Center/Headquarters, 7 miles east of Fruita on Rim Rock Drive, Fruita, CO 81521-0001, Tel: (970) 858-3617.

Fruita Branch Mesa County Public Library District, 325 East Aspen Avenue, Fruita, CO 81521, Tel. (970) 858-7703.

Mesa County Central Library, 530 Grand Avenue, Grand Junction, CO 81502-5019, Tel. (970) 243-4442.

On the Web at: http://planning.nps.gov/plans.cfm.

FOR FURTHER INFORMATION CONTACT: Superintendent Palma Wilson, Colorado National Monument, Fruita, CO 81521-0001; Tel: (970) 858-3617; fax: (970) 858-0372; e-mail: palma_wilson@nps.gov.

SUPPLEMENTARY INFORMATION: If you wish to comment, you may submit your comments by several methods: (1) Mail to Suzanne Stutzman, National Park Service, IMDE-PE, 12795 W. Alameda Parkway, P.O. Box 25287, Denver, CO 80225-0287; (2) e-mail to suzy_stutzman@nps.gov; (3) utilize the “input” section of the Colorado National Monument planning Web site at http://planning.nps.gov/plans.cfm; (4) hand-deliver comments to Colorado National Monument visitor center/headquarters 7 miles east of Fruita, Colorado, on Rim Rock Drive. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

Dated: February 20, 2004.
Michael D. Snyder,
Deputy Director, Intermountain Region.

[FR Doc. 04-9349 Filed 4-23-04; 8:45 am]

BILLING CODE 4312-CP-P